NATIONAL AERONAUTICS AND SPACE ADMINISTRATION

[Notice 05-058]

National Environmental Policy Act; Environmental Assessment and Finding of No Significant Impact; NASA Shared Services Center (NSSC)

AGENCY: National Aeronautics and Space Administration (NASA).

ACTION: Finding of No Significant Impact.

SUMMARY: Pursuant to the National Environmental Policy Act of 1969, as amended (NEPA), the Council on Environmental Quality Regulations for Implementing the Procedural Provisions of NEPA, and NASA's implementing regulations, the National Historic Preservation Act, as amended, NASA regulations for implementing Executive Order (EO) 11988, Floodplain Management, and EO 11990, Protection of Wetlands, and the NASA Environmental Justice Strategy (1994) for implementing EO 12898, Federal Actions to Address Environmental Justice in Minority Populations and Low-Income Populations; NASA has made a Finding of No Significant Impact (FONSI) for the three proposed alternatives including: the Proposed and Preferred Action (Alternative A, lease and operation of the NASA Shared Services Center (NSSC) at any of the following three sites: NASA Stennis Space Center, Mississippi, Aerospace Technology Park, Brook Park, Ohio, and Cummings Research Park, Huntsville, Alabama); Alternative B (Virtual Consolidation); and Alternative C (No Action). Accordingly, an environmental impact statement is not required.

ADDRESSES: The Environmental Assessment (EA Phase 2) for the NSSC Facility that supports this FONSI may be reviewed on the NSSC Web site http://nssc.nasa.gov, or at the NASA Headquarters Library, 300 E Street, SW., Washington, DC 20546.

A limited number of copies of the EA are available by contacting Ms. Bridget Mackall, Environmental Management Division (Code LD020), NASA Headquarters, 300 E Street, SW., Washington, DC 20546-0001; phone: 202-358-0230; e-mail: bridget.d.mackall@nasa.gov or contact the following NASA Center NEPA Document Managers: NASA Glenn Research Center: Ms. Trudy F. Kortes, 216-433-3632. NASA Marshall Space Flight Center: Ms. Donna L. Holland, 256-544-7201. NASA Stennis Space Center: Ms. Carolyn D. Kennedy, 228-688-1445.

SUPPLEMENTARY INFORMATION: NASA is proposing to consolidate certain transactional functions currently performed across NASA Centers to a new business unit known as the NASA Shared Services Center (NSSC) (NASA Shared Services Center (NSSC) Implementation Plan Report (NSSC-RPT-02 Volume 1, September 2003, recommending continued planning for early implementation of the NSSC) (Implementation Plan), available at http://nssc.nasa.gov. The purpose of the Proposed Action (Alternative A), which is also the Preferred Alternative, is to locate the NSSC consistent with the recommendations of the Implementation Plan addressing the need for NASA to improve the use of resources and foster greater efficiencies at reduced costs for transactional functions. The Proposed Action would create a functionally and environmentally efficient NSSC to meet the need for a single shared-services facility, consistent with and furthering other goals for the NSSC. The Virtual NSSC (Alternative B) would consolidate the same functions into an NSSC, but in a virtual environment. The No Action NSSC (Alternative C) would allow continued administrative re-organization, but not into a consolidated NSSC.

Alternative A (Proposed Action and Preferred Alternative)

The Proposed Action (and Preferred Alternative) (Alternative A) would be to consolidate and co-locate certain currently dispersed transactional and administrative activities performed at NASA Centers in human resources, procurement, financial management, and information technology (IT) and identified in the NSSC Implementation Plan. IT functions consolidated to NASA Marshall Space Flight Center would remain at Marshall Space Flight Center and be consolidated organizationally into the NSSC. Other types of functional activities or services may be consolidated into the NSSC in the future.

The NSSC would become operational on or about October 2005 and employ approximately 500 civil service employees and contractors at full transition after five years and may expand later by up to 40 percent. Most personnel currently performing the functional activities at existing Centers would remain at their respective Centers to concentrate on Center mission activities. Some personnel would leave due to normal attrition, while other personnel would be relocated to the NSSC. In addition to labor cost and availability, NASA siting criteria included workforce diversity, local transportation access, access by other NASA Centers, safe and healthful working conditions, opportunities for further employee development in the vicinity of the proposed NSSC, and opportunities for partnering with local educational institutions, including minority institutions.

The NSSC would require Class A office space in a facility comparable to a mid-size office building of approximately 12,150 square meters (m²) (135,000 square feet (ft²)) with associated infrastructure, parking, and temporary swing space. No new computer “data centers” are planned. NASA would construct or lease the facility in partnership with State or local agencies or commercial partners. All proposals under Alternative A would include swing space in existing facilities during construction of the NSSC facility.

In addition to facility size, NASA required nominations to comply with NASA's sustainable design policy for new and renovated facilities (NASA Policy Directive (NPD) 8820.3, Facility Sustainable Design, NASA 2003, and NASA Memorandum on Policy for LEED® Leadership in Energy and Environmental Design Ratings for NASA New Facilities Projects, NASA Facilities Engineering Division, September 5, 2003). NASA also committed to designating a part or full-time NASA NSSC Environmental Manager and NASA NSSC Energy Manager and developing or applying an Environmental Management System (EMS) (NASA Procedural Requirements (NPR) 8553.1, NASA Environmental Management System, developed in response to EO 13148, Greening the Government Through Environmental Leadership), and would develop an Environmental Justice Strategy for the NSSC in response to NASA's Environmental Justice Strategy and EO 12898, Federal Actions to Address Environmental Justice in Minority Populations and Low-Income Populations.

Additional siting criteria included location of the NSSC in accordance with the priorities and procedures established in the Rural Development Act of 1972, as amended (requiring Federal agencies to implement policies and procedures for giving first priority to rural areas); EO 12072, Federal Space Management (requiring Federal agencies to locate facilities according to listed criteria); EO 13006, Locating Federal Facilities on Historic Properties in Our Nation's Central Cities (directing Federal agencies to give priority to locating in historic properties and districts); other applicable Federal, State, Tribal, and local requirements; and the ability of local communities to provide adequate housing, schools, health care, recreational opportunities, and other amenities.

To demonstrate efficiencies not only in functional performance, but also in facility management supporting the NSSC, and to meet the timetable for implementing the NSSC, NASA's siting criteria included the ability to mitigate environmental impacts in the design and operation of the NSSC to below applicable significance levels.

NASA invited each NASA Center to nominate one proposed site according to NASA siting criteria. The proposed sites could be located on a NASA Center or off Center and use existing facilities or propose new construction.

Six sites were nominated, all involving new construction by the partner(s) and lease to NASA. No existing buildings, historic sites, or facilities within historic districts were identified that could meet the technical requirements for the NSSC. After review, NASA decided to retain all six site nominations for further consideration in the Phase 2 EA. As a result of the subsequent service provider procurement process, three of the six sites were incorporated by prospective service providers and retained by NASA for consideration as the decision-making process proceeded. The retained sites under Alternative A include NASA Stennis Space Center, Mississippi; Aerospace Technology Park, Brook Park, Ohio; and Cummings Research Park, Huntsville, Alabama.

Alternative B (Virtual Consolidation)

Under Alternative B, NASA would consolidate the functions into an NSSC in a virtual environment. Under this alternative, NASA would reorganize and relocate personnel and equipment and make minor upgrades or modifications to facilities and equipment.

Alternative C (No Action)

Under the No Action alternative (Alternative C), NASA would not consolidate functions into an NSSC but may continue to reorganize and relocate personnel and equipment and make minor upgrades or modifications to facilities and equipment in its on-going effort to improve administrative performance.

Summary of Environmental Assessment

Under NASA's NEPA implementing regulations, the administrative reorganization and facility selection and operation associated with implementing the proposed NSSC may qualify as a categorical exclusion (14 CFR 1216.305(d)(7) or (8)), i.e., actions that may not require more detailed environmental analysis after review of any unique or extraordinary circumstances, public controversy on environmental grounds, and risks to public health and safety. However, because the proposed action might have lead, depending on the circumstances, to proposals that would normally require more detailed environmental analysis, NASA initiated a phased environmental evaluation process, beginning with a Phase 1 EA, in accordance with § 102(2)(E) of NEPA and NASA implementing regulations. The Phase 1 EA was used internally as a resource in developing the site nomination guidelines to minimize the potential for environmental impacts, and all nominations were required to include a NASA Environmental Checklist and draft Record of Environmental Consideration (REC). The Phase 2 EA, incorporating by reference the Phase 1 EA, NASA Environmental Checklists, and draft REC's, has been prepared in accordance with the above regulatory requirements and NPR 8580.1, Implementing the National Environmental Policy Act and EO 12114 (November 2001), and NPD 8500.1A, NASA Environmental Management (April 2004), which require NASA to consider environmental factors throughout the lifecycle of an action, including planning, development, and operations.

Six NASA Centers proposed sites for the NSSC, all of which involve new construction by the partner(s) and lease to NASA. Alternatives A.1 and A.3, using existing facilities on a NASA Center and outside of a NASA Center, respectively, thus, were not carried forward for analysis in the site-specific Phase 2 EA. The Phase 1 EA, NASA Environmental Checklists, and draft RECs were incorporated by reference into the EA Phase 2. As a result of the procurement process in which prospective service providers had the flexibility of incorporating any one of the six sites into their respective proposals, NASA announced on January 7, 2005, as the draft EA was being completed, that three sites under Alternative A would be carried forward (A.2.2 (Stennis Space Center), A.4.1 (Aerospace Technology Park), and A.4.4 (Cummings Research Park)). These latter three alternative sites remained under consideration (in italics); along with Alternatives B and C, as the decision-making process proceeded. Alternative A: Consolidation and co-location of functions at an NSSC:

On an existing NASA Center, new construction required (Alternative A.2 in Phase 1 EA):

A.2.1 NASA Johnson Space Center in Clear Lake, Texas.

A.2.2 NASA Stennis Space Center in Hancock County, Mississippi. Not on an existing NASA Center, new construction required (Alternative A.4 in Phase 1 EA):

A.4.1 Aerospace Technology Park, City of Brook Park, Ohio, nominated by the Glenn Research Center.

A.4.2 Central Florida Research Park in Orlando, Florida, nominated by the Kennedy Space Center.

A.4.3 City Center at Oyster Point, in Newport News Virginia, nominated by the Langley Research Center.

A.4.4 Cummings Research Park in Huntsville, Alabama, nominated by the Marshall Space Flight Center.

Alternative B: Consolidation of functions into a virtual NSSC.

Alternative C: No consolidation of functions into an NSSC (No Action alternative).

The analysis and findings of the alternatives and planned mitigation considered in EA Phase 2 are incorporated by reference and summarized in this FONSI.

Findings

On the basis of the EA Phase 2, NASA has determined that the environmental impacts associated with this project under any of the proposed alternatives are negligible or can be easily prevented and mitigated, and no individual or cumulatively significant effect, either direct or indirect, on the quality of the environment would occur.

Alternative A (Proposed Action and Preferred Alternative)

Issues commonly associated with construction or modification and operation of a mid-size office building include air emissions from site clearing and construction; noise during construction and operation; impacts to cultural resources, stormwater drainage, wetlands, floodplains, and wildlife due to site clearing, excavation, and increased traffic and other human activity; aesthetic or other impacts to historic properties; and changes in local traffic patterns and levels.

NASA required all nominations to include a completed NASA Environmental Checklist and draft REC. For all new construction alternatives at existing Centers, NASA also reviewed environmental baseline information and other relevant information. For those alternatives requiring construction of new facilities off-Center, NASA reviewed information from Federal, State, and local planning and environmental agencies and other relevant sources. Table 1 summarizes the key findings and planned mitigation.

None of the alternatives (Alternatives A (A.2.2, NASA Stennis Space Center, A.4.1, Aerospace Technology Park, and A.4.4, Cummings Research Park), B, and C) would affect floodplains or the coastal zone. Under Alternative A, development of the NSSC at the Aerospace Technology Park site may require a wetlands permit, which is anticipated to result in wetlands mitigation off site comparable to mitigation required for the expansion of the adjacent Cleveland-Hopkins International Airport, but on a much smaller scale. All sites would comply with stormwater management plans and permits. The Cummings Research Park site would require a State-approved stormwater management plan.

No federally listed threatened or endangered species or critical habitat or other federally protected species would be affected under any Alternative. NASA would require pre-construction surveys for migratory birds and the Indiana bat at the Aerospace Technology Park site. If the presence of these species is indicated, NASA would consult with the U.S. Fish and Wildlife Service. Mitigation may include adjusting the construction schedule. At any of the sites, if threatened or endangered species or other protected species are discovered during construction, NASA would consult with the U.S. Fish and Wildlife Service in accordance with the applicable statutes and regulations.

Traffic and associated air quality impacts are expected to be minimal due to site locations near major arterials and the availability of traffic management options. NASA would require that precautions be taken to minimize dust and noise impacts at all sites.

Level 1 Site Assessments for contamination were completed at the Cummings Research Park site and an extensive Center-wide survey was conducted at NASA Stennis Space Center. None of these assessments indicated that contamination was likely or that a Level 2 Site Assessment would be needed. Based on current information available to NASA, contamination is also not anticipated at the Aerospace Technology Park site, but NASA would require a confirmatory Level 1 Site Assessment prior to contract or lease for this site. If contamination requiring remediation is discovered at a site and NASA decides to proceed with development of the NSSC at the site, NASA would require that a remediation plan be developed and implemented prior to construction. Similarly, if contamination requiring remediation is discovered during construction, NASA would require development and implementation of a remediation plan.

Cultural resources surveys have been completed for the Cummings Research Park site and for NASA Stennis Space Center, and the proposed action would not affect cultural resources at or in the vicinity of these proposed sites. Based on current information available for the Aerospace Technology Park site and surrounding areas, no historic structures would be affected and NASA does not anticipate the presence of major archeological resources, but would require confirmatory test borings for archeological resources prior to lease or contract as recommended by the Ohio Historic Preservation Office. If archeological resources are discovered at a site prior to construction or unanticipated discovery occurs during construction, NASA would consult with the respective State Historic Preservation Officer. If NASA decided to proceed with implementation of the NSSC at the site and mitigation is required, NASA would develop and implement a mitigation plan. A mitigation plan may include adjusting the footprint, phasing construction, recovering data, curating artifacts, and providing the public with information about the site's history.

The proposed action would not result in disproportionately high and adverse environmental impacts on minority or low-income populations or affect children's environmental health or safety. NASA would develop an environmental justice strategy for the NSSC.

NASA would implement an EMS for the NSSC to prevent any potentially adverse impacts during operations.

Alternative B (Virtual Consolidation)

Under Alternative B, NASA would consolidate functions in a virtual environment without co-locating employees and contractors to a new location. NASA would relocate some personnel and equipment among existing Centers and require minor upgrades in facilities and equipment at existing Centers. Virtual consolidation, however, is unlikely to result in substantial direct, indirect, or cumulative environmental impacts not covered under existing Center permits and environmental reviews. In specific instances, and depending upon the circumstances, minor modifications of a facility at a Center could result in additional environmental review and permitting. NASA would continue to implement Center EMSs to prevent any potentially adverse impacts during operation of a Virtual NSSC. Alternative B would not fully meet the purpose and need for the NSSC.

Alternative C (No Action Alternative)

Under the No Action Alternative, NASA would not create an NSSC but may continue to relocate personnel and equipment among existing Centers and require minor upgrades in facilities and equipment at existing Centers as part of its on-going effort to improve efficiency and performance of its administrative operations. Such efforts are unlikely to result in substantial direct, indirect, or cumulative environmental impacts that are not covered under existing Center permits and environmental reviews. However, in specific instances, and depending upon the circumstances, minor modifications of a facility at a Center could result in additional environmental review and permitting. NASA would continue to implement Center EMSs to prevent any potentially adverse impacts during on-going operations. The No Action Alternative would not meet the purpose and need for the NSSC.

Based on these findings, NASA has determined that neither the Proposed Action under Alternative A to locate the NSSC at any of the three sites currently under consideration (A.2.2 (NASA Stennis Space Center), A.4.1 (Aerospace Technology Park), and A.4.4 (Cummings Research Park), Alternative B (Virtual Consolidation), nor Alternative C (No Action) would have a significant impact on the environment, and thus, an Environmental Impact Statement is not required.

NASA solicited comments on the draft EA and draft FONSI through notices published in the Federal Register and in the local papers. No comments were received. NASA will take final action immediately.

Dated: March 17, 2005.
Jeffrey E. Sutton,
Assistant Administrator for Infrastructure and Administration.

Table 1.—Summary of Potential Environmental Impacts of Alternatives A, B, and C (Mitigation Indicated in Footnotes)
Resource ¹ | Alternative A: Consolidation: A.2.1 NASA Johnson Space Center | Alternative A: Consolidation: A.2.2 NASA Stennis Space Center | Alternative A: Consolidation: A.4.1 Aerospace Technology Park | Alternative A: Consolidation: A.4.2 Central Florida Research Park | Alternative A: Consolidation: A.4.3 City Center at Oyster Point | Alternative A: Consolidation: A.4.4 Cummings Research Park | Alternative B: Virtual consolidation | Alternative C: No action
NSSC Location | Clear Lake, TX | Hancock County, MS | Brook Park, OH | Orlando, FL | Newport News, VA | Huntsville, AL |  |
Construction Required ² | Yes, on-site | Yes, on-site | Yes, off-site | Yes, off-site | Yes, off-site | Yes, off-site | No | No.
Transportation and Traffic | Low impact | Low impact | Low impact | Low impact | Low impact | Low impact | No impact | No impact.
Solid and Hazardous Waste Generation and Management | Low to no impact ³ | Low to no impact ⁴ | Low to no impact ⁵ | Low to no impact ⁶ | Low to no impact ⁷ | Low to no impact ⁸ | No impact | No impact.
Public Services and Utilities ⁹ | Low to no impact | Low to no impact | Low to no impact | Low to no impact | Low to no impact | Low to no impact | Low to no impact | No impact.
Communication | Low to no impact | Low to no impact | Low to no impact | Low to no impact | Low to no impact | Low to no impact | Low to no impact | No impact.
Land Use | Low impact | Low impact | Low impact | Low impact | Low impact | Low impact | No impact | No impact.
Noise | Low impact | Low impact | Low impact ¹⁰ | Low impact | Low impact | Low impact | No impact | No impact.
Air Quality | Low to no impact ¹¹ | Low to no impact | Low to no impact | Low to no impact | Low to no impact | Low to no impact | No impact | No impact.
Water Resources | Low to no impact | Low to no impact | Low to no impact | Low to no impact ¹² | Low to no impact | Low to no impact ¹³ | No impact | No impact.
Soils and Geology | Low to no impact | Low to no impact | Low to no impact | Low to no impact | Low to no impact | Low to no impact | No impact | No impact.
Biological Resources ¹⁴ | Low to no impact ¹⁵ | Low to no impact | Low to no impact ¹⁶ | Low to no impact | No impact | No impact | No impact | No impact.
Ecological Resources | No impact | No impact | Wetlands impact to be mitigated ¹⁷ | No impact | No impact | No impact | No impact | No impact.
Cultural and Historic Resources ¹⁸ | Low to no impact ¹⁹ | No impact | Low to no impact ²⁰ | Low to no impact ²¹ | Low to no impact ²² | No impact | No impact | No impact.
Environmental Justice ²³ | No adverse impact | No adverse impact | No adverse impact | No adverse impact | No adverse impact | No adverse impact | No adverse impact | No adverse impact.
¹ Alternative A: NASA NSSC Environmental Management System to be developed and full-or part-time NASA NSSC Environmental Manager to be designated. Alternatives B and C: Current NASA Center EMS would apply.
² Alternative A: All nominations required consistency with NASA's sustainable facilities policy.
³ No Level/Phase 1 Site Assessment. Available information does not indicate contamination likely. Confirmatory Environmental Site Assessment for contamination required prior to lease or contract.
⁴ Center-wide survey completed. No contamination indicated at the proposed site. State of Mississippi concurred.
⁵ No Level/Phase 1 Site Assessment. Available information does not indicate contamination likely. Confirmatory Environmental Site Assessment for contamination required prior to lease or contract.
⁶ No LevelPhase 1 Site Assessment. Available information does not indicate contamination likely. Confirmatory Environmental Site Assessment for contamination required prior to lease or contract.
⁷ Level/Phase 1 Site Assessment completed. Level 2 Site Assessment not indicated.
⁸ Level/Phase 1 Site Assessment completed. Level 2 Site Assessment not indicated.
⁹ Alternative A: NASA NSSC Energy Manager, full-or part-time, to be designated. Alternatives B and C: Current on-site NASA Center Energy Manager.
¹⁰ Noise impacts from adjoining airport to be mitigated in accordance with occupational health and safety regulations and local noise codes.
¹¹ Confirmatory Clean Air Act General Conformity Determination (NOX and VOCs) may be required; construction scheduling adjustment and other mitigation may be required if results for relevant emissions exceed de minimus levels. Preliminary analysis indicated that levels would be well below de minimus levels.
¹² State Environmental Resources Permit would be required.
¹³ State approved stormwater management plan would be required.
¹⁴ All: If protected species are subsequently discovered on site or species on site are later designated for protection, NASA will consult with the U.S. Fish and Wildlife Service.
¹⁵ Pre-construction survey required for migratory birds and, if results indicate presence, adjustment of construction schedule may be required.
¹⁶ Pre-construction survey required for migratory birds and Indiana bat and if results indicate presence, adjustment of construction schedule may be required.
¹⁷ Clean Water Act sec. 404 wetlands permit from the Army Corps of Engineers required; wetlands mitigation planned off-site.
¹⁸ Alternative A: If unanticipated discovery occurs during excavation or construction, consultation with SHPO would be required to development mitigation plan if needed that may include adjustment of the footprint or construction schedule, data recovery, curation, and public education display.
¹⁹ No impact to National Historic Landmarks at Johnson Space Center. Confirmatory site testing for archeological resources may be required, and if results indicate presence, consultation with SHPO would be required to development mitigation plan if needed that may include adjustment of the footprint or construction schedule, data recovery, curation, and public education display.
²⁰ Site testing for archeological resources would be required as recommended by SHPO, and if results indicate presence, consultation with SHPO would be required to development mitigation plan if needed that may include adjustment of the footprint or construction schedule, data recovery, curation, and public education display.
²¹ Confirmatory site testing for archeological resources may be required, and if results indicate presence, consultation with SHPO would be required to development mitigation plan if needed that may include adjustment of the footprint or construction schedule, data recovery, curation, and public education display.
²² Confirmatory site testing for archeological resources may be required, and if results indicate presence, consultation with SHPO would be required to development mitigation plan if needed that may include adjustment of the footprint or construction schedule, data recovery, curation, and public education display.
²³ Alternative A: NASA NSSC EJ Strategy would be developed. Alternatives B and C: Current NASA Center EJ Strategy would apply.

[FR Doc. 05-5772 Filed 3-23-05; 8:45 am]

BILLING CODE 7510-13-P